ELECTION ASSISTANCE COMMISSION

Sunshine Act Notice

AGENCY: United States Election Assistance Commission.

ACTION: Notice of public meeting agenda.

DATE AND TIME: Tuesday, March 22, 2005, 10 a.m.-12 noon.

PLACE: U.S. Election Assistance Commission, 1225 New York Avenue, NW., Suite 1100, Washington, DC 2005 (Metro Stop: Metro Center).

AGENDA: The Commission will receive reports on the following: Title II Requirements Payments Update; Technical Guidelines Development Committee Update; Election Day Survey Analysis Update; Other Administrative Matters. The Commission will receive presentations on the following: The Role of the United States Election Assistance Commission as a Clearinghouse.

FOR FURTHER INFORMATION CONTACT: Bryan Whitener, Telephone: (202) 566-3100.

Gracia M. Hillman,
Chair, U.S. Election Assistance Commission.

[FR Doc. 05-4983 Filed 3-9-05; 2:05 pm]

BILLING CODE 6820-YN-M